DEPARTMENT OF COMMERCE

National Oceanic and Atmospheric Administration

[I.D. 051701E]

Coastal Zone Management Program Administration Grants

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 23, 2001.

ADDRESSES: Direct all written comments to Madeleine Clayton, Departmental Paperwork Clearance Officer, Department of Commerce, Room 6086, 14th and Constitution Avenue NW, Washington DC 20230 (or via the Internet at MClayton@doc.gov).

FOR FURTHER INFORMATION CONTACT: Requests for additional information or copies of the information collection instrument(s) and instructions should be directed to John King, Acting Chief, Coastal Programs Division, NOS, 1305 East-West Highway, Room 11110, Silver Spring, MD 20910 (phone: 301-713-3121, ext. 188).

SUPPLEMENTARY INFORMATION:

I. Abstract

Coastal zone management grants provide funds to states and territories to implement federally approved Coastal Zone Management Programs and to develop assessment documents and multi-year strategies. Paperwork Reduction Act approval is being sought for performance and annual reports, requests for amendments or routine program changes to an approved program, and the submission of program management and assessment/strategy documents.

II. Method of Collection

Information is submitted to respond to requirements detailed in regulations. No forms are used.

III. Data

OMB Number: 0648-0119.

Form Number: None.

Type of Review: Regular submission.

Affected Public: State, local, or tribal government.

Estimated Number of Respondents: 34.

Estimated Time Per Response: 15 hours for a performance report on a state’s Coastal Zone Management Program, 27 hours for any other performance report, 800 hours for a program management document, 6 hours for an annual report, 240 hours for an Assessment and Strategy document, 8 hours for an amendment, and 5 hours for documentation related to section 306A of the Coastal Zone Management Act.

Estimated Total Annual Burden Hours: 6,598.

Estimated Total Annual Cost to Public: $250.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 15, 2001.
Madeleine Clayton,
Departmental Paperwork Clearance Officer, Office of the Chief Information Officer.

[FR Doc. 01-12875 Filed 5-21-01; 8:45 am]

BILLING CODE 3510-08-S